DEPARTMENT OF COMMERCE

International Trade Administration

Notice of Scope Rulings

AGENCY: Enforcement and Compliance, International Trade Administration, Department of Commerce.

DATES: Applicable July 9, 2018.

SUMMARY: The Department of Commerce (Commerce) hereby publishes a list of scope rulings and anticircumvention determinations made between April 1, 2017, and June 30, 2017, inclusive. We intend to publish future lists after the close of the next calendar quarter.

FOR FURTHER INFORMATION CONTACT: Brenda E. Brown, AD/CVD Operations, Customs Liaison Unit, Enforcement and Compliance, International Trade Administration, U.S. Department of Commerce, 1401 Constitution Avenue NW, Washington, DC 20230; telephone: 202-482-4735.

SUPPLEMENTARY INFORMATION:

Background

Commerce regulations provide that the Secretary will publish in the Federal Register a list of scope rulings on a quarterly basis.¹ Our most recent notification of scope rulings was published on (June 6, 2018).² This current notice covers all scope rulings and anticircumvention determinations made by Enforcement and Compliance between April 1, 2017, and June 30, 2017, inclusive. Two additional subsequent lists will immediately follow to bring these quarterly notices up to date.

¹ See 19 CFR 351.225(o).

² See Notice of Scope Rulings, 83 FR 26257 (June 6, 2018).

Scope Rulings Made Between April 1, 2017 and June 30, 2017

Mexico

A-201-805: Certain Circular Welded Non-Alloy Steel Pipe From Mexico

Requestor: Sumitomo Corporation of Americas and Nippon Steel & Sumikin Pipe Mexico, S.A. de C.V.; Thirteen types of automotive and cylinder tubes are outside the scope of the order because they are mechanical tubing, which is excluded from the order; May 12, 2017.

Socialist Republic of Vietnam

A-552-818 and C-552-819: Certain Steel Nails From the Socialist Republic of Vietnam

Requestor: Midwest Fastener Corp.; Zinc and nylon anchors which are used to attach wood, metal, shelf brackets, and other items to concrete, brick and other masonry walls, ceilings, and floors are within the scope of the antidumping and countervailing duty orders; May 17, 2017.

People's Republic of China

A-570-967 and C-570-968: Aluminum Extrusions From the People's Republic of China

Requestor: Eran Financial Services, LLC.; Eran Finished Light Poles and Light Pole Kits are not covered by the scope of the antidumping and countervailing duty orders on aluminum extrusions from the People's Republic of China because they meet the criteria for exclusion as finished merchandise or finished goods kits; April 17, 2017.

A-570-967 and C-570-968: Aluminum Extrusions From the People's Republic of China

Requestor: Ferguson Enterprises Inc.; Ferguson's towel bars, towel rings and toilet paper kits are not subject to the antidumping and countervailing duty orders on aluminum extrusions from the People's Republic of China because they qualify for the scope exclusion as finished goods kits; April 20, 2017.

A-570-967 and C-570-968: Aluminum Extrusions From the People's Republic of China

Requestor: Spectrum Brands, Inc.; Spectrum pocket door frame kits are not covered by the scope of the antidumping and countervailing duty orders on aluminum extrusions from the People's Republic of China because they meet the criteria for exclusion as finished goods kits; May 9, 2017.

A-570-967 and C-570-968: Aluminum Extrusions From the People's Republic of China

Requestor: Ferguson Enterprises Inc.; Ferguson's Air Duct Registers are not subject to the antidumping and countervailing duty orders on aluminum extrusions from the People's Republic of China because they qualify for the scope exclusion as finished merchandise; May 10, 2017.

A-570-967 and C-570-968: Aluminum Extrusions From the People's Republic of China

Requestor: VantagePoint Industries LLC; Certain barn door hardware kits are not covered by the scope of antidumping and countervailing orders on aluminum extrusions from the People's Republic of China because they meet the requirements of the finished good kits exclusion; May 19, 2017.

A-570-967 and C-570-968: Aluminum Extrusions From the People's Republic of China

Requestor: Innovative Outdoor Solutions, Inc.; Ten different outdoor products are not covered by the scope of antidumping and countervailing orders on aluminum extrusions from the People's Republic of China because they meet the requirements of the finished good kits exclusion. Two outdoor products are included in the scope of the order because they do not qualify for the scope exclusion for finished merchandise or finished goods kits; June 9, 2017.

A-570-967 and C-570-968: Aluminum Extrusions From the People's Republic of China

Requestor: Aluminum Extrusion Fair Trade Committee; Certain aluminum extrusions from the People's Republic of China made of series 6xxx aluminum alloy, which are cut-to-length and welded together in the form of a pallet, regardless of producer or exporter, are included in the scope of the antidumping and countervailing duty orders because they meet the definition of merchandise covered by the scope of the orders and do not qualify to be excluded as “finished merchandise”; June 13, 2017.

A-570-967 and C-570-968: Aluminum Extrusions From the People's Republic of China

Requestor: Woodard CM-LLC; Woodard dining chair kits are covered by the scope of the antidumping and countervailing duty orders on aluminum extrusions from the People's Republic of China because, as entered, they require further finishing and lack component parts, such that they do not meet the criteria for exclusion as finished merchandise; June 19, 2017.

A-570-018 and C-570-019: Boltless Steel Shelving Units Prepackaged for Sale From the People's Republic of China

Requestor: Grainger International, Inc.; 14 storage cabinet models and 15 quick assembly bookcase models are not covered by the scope of the antidumping duty and/or countervailing duty orders on boltless steel shelving units prepacked for sale from the People's Republic of China because neither product has a horizontal support member upon which a horizontal storage shelf sits, and the structural integrity of both products is provided by the open box design rather than vertical support members as required by the plain language of the scope; April 20, 2017.

A-570-912 and C-570-913: Certain New Pneumatic Off-the-Road Tires From the People's Republic of China

Requestor: Leviathan Corp. (Leviathan); Leviathan requested that Commerce find that its imports of certain mining and construction vehicle tires are excluded from the scope of antidumping order (A-570-912) and countervailing duty order (C-570-913) on off-the road tires from the PRC. We determined that Leviathan's imports of three models of new pneumatic off-the-road tires, 37.5-39 Caterpillar 657E Wheel Tractor-Scraper tires, 45/65-45 Caterpillar 992K Wheel Loader tires, and 27.00-49 Caterpillar 777G Off-Highway Truck tires, are not covered by the scope of the Orders; April 24, 2017.

A-570-910 and C-570-911: Circular Welded Carbon-Quality Steel Pipe From the People's Republic of China

Requestor: Acme Manufacturing Company; Acme's short round tubes are within the scope of the antidumping and countervailing duty orders on circular welded carbon-quality steel pipe from the People's Republic of China because the scope language is not limited to pipes of a certain length, to pipes made to an industry specification, or to pipes with a specific end-use; April 4, 2017.

A-570-891: Hand Trucks and Certain Parts Thereof From the People's Republic of China

Requestor: TreeKeeper LLC (TreeKeeper); TreeKeeper's Adjustable Telescoping OrnamentKeeper is outside the scope of the antidumping duty order on hand trucks because the product is incapable of sliding under a load for the purposes of lifting and moving it; and TreeKeeper's XL Tree Dolly is covered by the scope of the order; April 19, 2017.

A-570-891: Hand Trucks and Certain Parts Thereof From the People's Republic of China

Requestor: Groupe Bugatti Group Inc. (Bugatti); Bugatti's luggage cart, style No. CRT39, is covered by the scope of the order on hand trucks, because it meets the operational requirement of being capable of sliding under a load, and lacks the telescoping frame necessary to meet the luggage cart exclusion; June 30, 2017.

A-570-914 and C-570-915: Light-walled Rectangular Pipe and Tube From the People's Republic of China

Requestor: Acme Manufacturing Company; Black and perforated square tubes are covered by the scope of the antidumping duty and countervailing duty orders on light-walled rectangular pipe and tube from the People's Republic of China because they possess all of the physical characteristics of subject merchandise that are described in the scope; April 26, 2017.

A-570-970 and C-570-971: Multilayered Wood Flooring From the People's Republic of China

Requestor: DunHua SenTai Wood Co., Ltd.; Two-layer wood flooring products are not covered by the scope of the antidumping and countervailing duty orders on multilayered wood flooring from the People's Republic of China because they lack the requisite two or more layers or plies of wood veneer in combination with a core; April 7, 2018.

A-570-875: Non-Malleable Cast Iron Pipe Fittings From the People's Republic of China

Requestor: U.V. International LLC (U.V. International); U.V. International's ductile iron flanges identified by product codes DPF003 and DPF004 are within the scope of the order; May 12, 2017.

A-570-943 and C-570-944: Oil Country Tubular Goods From the People's Republic of China

Requestor: Cameron International Corporation; Unfinished packoff support bushings, unfinished mandrel casing hangers, and unfinished casing head housings (intended for use in an above-ground multibowl wellhead systems) are not covered by the scope of the antidumping and countervailing duty orders; June 30, 2017.

A-570-924: Polyethylene Terephthalate film, sheet and strip From the People's Republic of China

Requestor: UPM Raflatac; The imported glycol-modified polyethylene terephthalate (PETG) shrink film is outside the scope of the antidumping duty order on polyethylene terephthalate film, sheet and strip from the People's Republic of China because it constitutes shrink film that is not bi-axially oriented; May 12, 2017.

A-570-956 and C-570-957: Seamless Carbon and Alloy Steel Standard, Line, and Pressure Pipe From the People's Republic of China

Requestor: Commercial Honing LLC dba Commercial Fluid Power; Ten different seamless pipe products are not covered by the scope of the antidumping and countervailing duty orders on certain seamless steel tubing from the People's Republic of China because the mechanical tubing does not meet the dimensional requirements, i.e., outside diameter and wall thickness, described in the exception to the exclusion, of ASTM A-53, ASTM A-106, or API 5L specifications; May 16, 2017.

Interested parties are invited to comment on the completeness of this list of completed scope inquiries. Any comments should be submitted to the Deputy Assistant Secretary for AD/CVD Operations, Enforcement and Compliance, International Trade Administration, 1401 Constitution Avenue NW, APO/Dockets Unit, Room 18022, Washington, DC 20230.

This notice is published in accordance with 19 CFR 351.225(o).

Dated: June 29, 2018.
Scot Fullerton,
Director, Office VI, Antidumping and Countervailing Duty Operations.

[FR Doc. 2018-14620 Filed 7-6-18; 8:45 am]

BILLING CODE 3510-DS-P